DEPARTMENT OF TRANSPORTATION

Maritime Administration

[Docket No. MARAD-2011 0078]

Requested Administrative Waiver of the Coastwise Trade Laws

Correction

In notice document 2011-15148 appearing on page 35945 in the issue of June 20, 2011, make the following correction:

On page 35945, in the third column, under the DATES heading, the second line “June 20, 2011.” should read “July 20, 2011.”

[FR Doc. C1-2011-15148 Filed 7-8-11; 8:45 am]

BILLING CODE 1505-01-D